SMALL BUSINESS ADMINISTRATION

[Declaration of Disaster #3564]

State of Ohio (Amendment #2)

In accordance with a notice received from the Department of Homeland Security—Federal Emergency Management Agency, effective February 13, 2004, the above numbered declaration is hereby amended to include Belmont County as a disaster area due to damages caused by severe storms, flooding, mudslides, and landslides occurring on January 3, 2004, and continuing through January 30, 2004.

In addition, applications for economic injury loans from small businesses located in the contiguous county of Marshall in the State of West Virginia may be filed until the specified date at the previously designated location. All other counties contiguous to the above named primary county have been previously declared.

All other information remains the same, i.e., the deadline for filing applications for physical damage is March 26, 2004, and for economic injury the deadline is October 26, 2004.

(Catalog of Federal Domestic Assistance Program Nos. 59002 and 59008)

Dated: February 17, 2004.
S. George Camp,
Acting Associate Administrator for Disaster Assistance.

[FR Doc. 04-3843 Filed 2-20-04; 8:45 am]

BILLING CODE 8025-01-P